DEPARTMENT OF ENERGY

Federal Energy Regulatory Commission

[Project No. 13563-003-Alaska]

Juneau Hydropower, Inc.; Notice of Availability of the Final Environmental Impact Statement for the Sweetheart Lake Hydroelectric Project

In accordance with the National Environmental Policy Act of 1969 and the Federal Energy Regulatory Commission (Commission or FERC) regulations contained in the Code of Federal Regulations (CFR)(18 CFR part 380 [FERC Order No. 486, 52 FR 47897]), the Office of Energy Projects has reviewed the application for an original license for the Sweetheart Lake Hydroelectric Project (FERC No. 13563) and prepared a final environmental impact statement (EIS) for the project.

The proposed project would be located on Sweetheart Lake and Sweetheart Creek in the City and Borough of Juneau, Alaska. The proposed project, if licensed, would occupy 2,058.24 acres of federal lands within the Tongass National Forest, administered by the U.S. Department of Agriculture, Forest Service.

The final EIS contains staff's analysis of the applicant's proposal and the alternatives for licensing the Sweetheart Lake Hydroelectric Project. The final EIS documents the views of governmental agencies, non-governmental organizations, affected Indian tribes, the public, the license applicant, and Commission staff.

A copy of the final EIS is available for review at the Commission or may be viewed on the Commission's Web site at http://www.ferc.gov, using the “e-Library” link. Enter the docket number, excluding the last three digits, to access the document. For assistance, contact FERC Online Support at FERCOnlineSupport@ferc.gov or toll free at (866) 208-3676, or for TTY, contact (202) 502-8659.

You may also register online at http://www.ferc.gov/docs-filing/esubscription.asp to be notified via email of new filings and issuances related to this or other pending projects. For assistance, contact FERC Online Support.

For further information, contact John Matkowski at (202) 502-8576 or at john.matkowski@ferc.gov.

Dated: May 31, 2016.
Kimberly D. Bose,
Secretary.

[FR Doc. 2016-13355 Filed 6-6-16; 8:45 am]

BILLING CODE 6717-01-P